DEPARTMENT OF ENERGY

Federal Energy Regulatory Commission

Combined Notice of Filings #1

Take notice that the Commission received the following exempt wholesale generator filings:

Docket Numbers: EG25-524-000.

Applicants: Jackalope Wind II, LLC.

Description: Jackalope Wind II, LLC submits Notice of Self-Certification of Exempt Wholesale Generator Status.

Filed Date: 9/12/25.

Accession Number: 20250912-5130.

Comment Date: 5 p.m. ET 10/3/25.

Docket Numbers: EG25-525-000.

Applicants: Union Ridge Solar, LLC.

Description: Union Ridge Solar, LLC submits Notice of Self-Certification of Exempt Wholesale Generator Status.

Filed Date: 9/15/25.

Accession Number: 20250915-5037.

Comment Date: 5 p.m. ET 10/6/25.

Docket Numbers: EG25-526-000.

Applicants: Enterprise Storage LLC.

Description: Enterprise Storage LLC submits Notice of Self-Certification of Exempt Wholesale Generator Status.

Filed Date: 9/15/25.

Accession Number: 20250915-5067.

Comment Date: 5 p.m. ET 10/6/25.

Docket Numbers: EG25-527-000.

Applicants: Granite Mountain BESS East LLC.

Description: Granite Mountain BESS East LLC submits Notice of Self-Certification of Exempt Wholesale Generator Status.

Filed Date: 9/15/25.

Accession Number: 20250915-5068.

Comment Date: 5 p.m. ET 10/6/25.

Docket Numbers: EG25-528-000.

Applicants: Anticline Energy Storage, LLC.

Description: Anticline Energy Storage, LLC submits Notice of Self-Certification of Exempt Wholesale Generator Status.

Filed Date: 9/15/25.

Accession Number: 20250915-5087.

Comment Date: 5 p.m. ET 10/6/25.

Take notice that the Commission received the following Complaints and Compliance filings in EL Dockets:

Docket Numbers: EL25-114-000.

Applicants: Turlock Irrigation District.

Description: Petition for Declaratory Order of Turlock Irrigation District.

Filed Date: 9/9/25.

Accession Number: 20250909-5206.

Comment Date: 5 p.m. ET 10/9/25.

Take notice that the Commission received the following electric rate filings:

Docket Numbers: ER24-1177-001.

Applicants: Central Maine Power Company.

Description: Refund Report: Refund Report to be effective N/A.

Filed Date: 9/15/25.

Accession Number: 20250915-5108.

Comment Date: 5 p.m. ET 10/6/25.

Docket Numbers: ER25-58-003.

Applicants: Sentinel Energy Center, LLC.

Description: Compliance filing: Approved Settlement Compliance Filing to be effective 10/9/2024.

Filed Date: 9/15/25.

Accession Number: 20250915-5083.

Comment Date: 5 p.m. ET 10/6/25.

Docket Numbers: ER25-3425-000.

Applicants: Midcontinent Independent System Operator, Inc.

Description: Compliance filing: 2025-09-15_Compliance Filing Consumers Energy Company DOE Order to be effective 5/23/2025.

Filed Date: 9/15/25.

Accession Number: 20250915-5049.

Comment Date: 5 p.m. ET 10/6/25.

Docket Numbers: ER25-3426-000.

Applicants: Enterprise Storage LLC.

Description: 205(d) Rate Filing: Market-Based Rate Application and Request for Waivers and Blanket Approvals to be effective 11/15/2025.

Filed Date: 9/15/25.

Accession Number: 20250915-5051.

Comment Date: 5 p.m. ET 10/6/25.

Docket Numbers: ER25-3427-000.

Applicants: Granite Mountain BESS East LLC.

Description: 205(d) Rate Filing: Market-Based Rate Application and Request for Waivers and Blanket Approvals to be effective 11/15/2025.

Filed Date: 9/15/25.

Accession Number: 20250915-5053.

Comment Date: 5 p.m. ET 10/6/25.

Docket Numbers: ER25-3428-000.

Applicants: Commonwealth Edison Company.

Description: 205(d) Rate Filing: ComEd True-up, XBRL and Ministerial Revisions to Attachment H-13A to be effective 1/1/2026.

Filed Date: 9/15/25.

Accession Number: 20250915-5060.

Comment Date: 5 p.m. ET 10/6/25.

Docket Numbers: ER25-3429-000.

Applicants: Harrison Renewable Energy, LLC.

Description: 205(d) Rate Filing: HRE Initial MBR Application Filing to be effective 9/22/2025.

Filed Date: 9/15/25.

Accession Number: 20250915-5061.

Comment Date: 5 p.m. ET 10/6/25.

Docket Numbers: ER25-3430-000.

Applicants: Midcontinent Independent System Operator, Inc., Republic Transmission, LLC.

Description: 205(d) Rate Filing: Republic Transmission, LLC submits tariff filing per 35.13(a)(2)(iii: 2025-09-15_Republic Transmission Request for Incentives to be effective 11/15/2025.

Filed Date: 9/15/25.

Accession Number: 20250915-5069.

Comment Date: 5 p.m. ET 10/6/25.

Docket Numbers: ER25-3431-000.

Applicants: Mammoth Central LLC.

Description: Initial Rate Filing: Baseline new to be effective 12/15/2025.

Filed Date: 9/15/25.

Accession Number: 20250915-5086.

Comment Date: 5 p.m. ET 10/6/25.

Docket Numbers: ER25-3432-000.

Applicants: Mammoth Central II LLC.

Description: Initial Rate Filing: Baseline new to be effective 12/15/2025.

Filed Date: 9/15/25.

Accession Number: 20250915-5088.

Comment Date: 5 p.m. ET 10/6/25.

Docket Numbers: ER25-3433-000.

Applicants: TransWest Express LLC.

Description: 205(d) Rate Filing: 2025-09-15 TransWest Transmission Owner Tariff Filing and Request for Waiver to be effective 12/31/9998.

Filed Date: 9/15/25.

Accession Number: 20250915-5089.

Comment Date: 5 p.m. ET 10/6/25.

Docket Numbers: ER25-3434-000.

Applicants: Mammoth South LLC.

Description: Initial Rate Filing: Baseline new to be effective 12/15/2025.

Filed Date: 9/15/25.

Accession Number: 20250915-5090.

Comment Date: 5 p.m. ET 10/6/25.

Docket Numbers: ER25-3435-000.

Applicants: Duke Energy Carolinas, LLC.

Description: 205(d) Rate Filing: DEC—Decommissioning filing to be effective 11/15/2025.

Filed Date: 9/15/25.

Accession Number: 20250915-5114.

Comment Date: 5 p.m. ET 10/6/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern Time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: September 15, 2025.
Carlos D. Clay,
Deputy Secretary.

[FR Doc. 2025-18054 Filed 9-17-25; 8:45 am]

BILLING CODE 6717-01-P